FEDERAL COMMUNICATIONS COMMISSION

Public Information Collections Approved by Office of Management and Budget

April 5, 2002.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0855.

Expiration Date: 09/30/2002.

Title: Telecommunications Reporting Worksheet and Associated Requirements, CC Docket No. 96-45.

Form No.: FCC Form 499 (FCC Forms 499-A and 499Q).

Respondents: Business or other for-profit; Not for profit institutions.

Estimated Annual Burden: 5500 respondents; 15 hours per response (avg.).; 82,487 total annual burden hours.

Estimated Annual Reporting and Recordkeeping Cost Burden: $14,000.

Frequency of Response: On occasion; Annually; Quarterly.

Description: Pursuant to the Communications Act of 1934, as amended, telecommunications carriers (and certain other providers of telecommunications services) must contribute to the support and cost recovery mechanisms for telecommunications relay services, numbering administration, number portability, and universal service. Respondents file their gross-billed end-user telecommunications revenues on a quarterly basis in FCC Form 499-Q, and on an annual basis in FCC Form 499-A. FCC Form 499-A is filed on annually on April 1. (No. of respondents: 3500; hours per response: 9.5, total annual burden: 33,250 hours). The FCC Form 499-Q has been revised. The revised form permits affiliated legal entities to make consolidated filings if they meet ten conditions. Filers making the election must certify to ten conditions. See Report and Order issued in CC Docket Nos. 96-45, 98-171, 90-571, 92-237, 99-200, 95-166 and 98-170 (FCC 02-43) released February 26, 2002. Carriers must file the revised FCC Form 499-Q on May 1, 2002. (No. of respondents; 2000; hours per response: 6 hours x 4 filings = 24 hours; total annual burden: 48,000 hours). Carriers are required to file FCC Form 499-Q reporting their revenues from the prior quarter, by the beginning of the second month of the current quarter (i.e., February 1, May 1, August 1, and November 1). Copies of the Instructions and FCC Form 499-A and the revised FCC Form 499-Q may be obtained from the Commission's Form Web Page (www.fcc.gov/formpage.html). Copies may also be obtained from the National Exchange Carrier Association (NECA) at (973) 560-4400. Obligation to respond: Mandatory.

OMB Control No.: 3060-0814.

Expiration Date: 03/31/2005.

Title: Section 54.301, Local Switching Support and Local Switching Support Data Collection Form and Instructions.

Form No.: N/A.

Respondents: Business or other for-profit.

Estimated Annual Burden: 195 respondents; 19.42 hours per response (avg.).; 3787 total annual burden hours.

Estimated Annual Reporting and Recordkeeping Cost Burden: $0.

Frequency of Response: On occasion; Annually.

Description: Pursuant to Section 54.301, each incumbent local exchange carrier that is not a member of the NECA common line tariff, that has been designated an eligible telecommunications carrier, and that serves a study area with 50,000 or fewer access lines shall, for each study area, provide the Administrator with the projected total unseparated dollar amount assigned to each account in Section 54.301(b). (No. of respondents: 157; ours per response; 24 hours; total annual burden: 3768 hours). Average schedule companies are required to file information pursuant to Section 54.301(f). (No. of respondents: 38; hours per response: .5 hours; total annual burden: 19 hours). Both respondents must provide true-up data. The data is necessary to calculate the average unseparated local switching revenue requirement. This revenue requirement is necessary to calculate the amount of local switching support that carriers will receive. Obligation to respond: Mandatory.

OMB Control No.: 3060-0512.

Expiration Date: 4/30/2005.

Title: ARMIS Annual Summary Report.

Form No.: FCC Report 43-01.

Respondents: Business or other for-profit.

Estimated Annual Burden: 121 respondents; 14.36 hours per response (avg.).; 11,737 total annual burden hours.

Estimated Annual Reporting and Recordkeeping Cost Burden: $0.

Frequency of Response: Annually.

Description: Section 220 of the Communications Act of 1934, as amended, 47 U.S.C. 220, allows the Commission, at its discretion, to prescribe the forms of any and all accounts, records, and memoranda to be kept by carriers subject to this Act, including the accounts, records, and memoranda of the movement of traffic, as well as of the receipts and expenditures of moneys. Section 219(b) of the Communications Act of 1934, as amended, 47 U.S.C. 219(b), authorizes the Commission by a general or special orders to require any carriers subject to this Act to file annual reports concerning any matters with respect to which the Commission is authorized or required by law to act. ARMIS was implemented to facilitate the timely and efficient analysis of revenue requirements, rates of return and price caps; to provide an improved basis for audits and other oversight functions; and to enhance the Commission's ability to quantify the effects of alternative policy. The ARMIS 43-01 Report contains financial and operating data and is used to monitor the incumbent local exchange carriers (ILECs) and to perform routine analyses of costs and revenues. ARMIS 43-01 Report facilitates the annual collection of the results of accounting, rate base, and cost allocation requirements prescribed in Parts 32, 36, 64, 65, and 69 of the Commission's Rules and Regulations. The information contained in the ARMIS 43-01 Report provides the necessary detail to enable the Commission to fulfill its regulatory responsibilities. Obligation to respond: Mandatory.

OMB Control No.: 3060-0763.

Expiration Date: 4/30/2005.

Title: ARMIS Customer Satisfaction Report.

Form No.: FCC Report 43-06.

Respondents: Business or other for-profit.

Estimated Annual Burden: 8 respondents; 720 hours per response (avg.).; 5760 total annual burden hours.

Estimated Annual Reporting and Recordkeeping Cost Burden: $0.

Frequency of Response: Annually.

Description: Section 220 of the Communications Act of 1934, as amended, 47 U.S.C. 220, allows the Commission, at its discretion, to prescribe the forms of any and all accounts, records, and memoranda to be kept by carriers subject to this Act, including the accounts, records, and memoranda of the movement of traffic, as well as of the receipts and expenditures of moneys. Section 219(b) of the Communications Act of 1934, as amended, 47 U.S.C. 219(b), authorizes the Commission by a general or special orders to require any carriers subject to this Act to file annual reports concerning any matters with respect to which the Commission is authorized or required by law to act. ARMIS was implemented to facilitate the timely and efficient analysis of revenue requirements, rates of return and price caps; to provide an improved basis for audits and other oversight functions; and to enhance the Commission's ability to quantify the effects of alternative policy. The ARMIS 43-06 Report reflects the results of customer satisfaction surveys conducted by individual carriers from residential and business customers. The ARMIS 43-06 Report captures trends in service quality. The information contained in the ARMIS 43-06 Report provides the necessary detail to enable this Commission to capture trends in service quality. Obligation to respond: Mandatory.

OMB Control No.: 3060-0496.

Expiration Date: 4/30/2005.

Title: ARMIS Operating Data Report.

Form No.: FCC Report 43-08.

Respondents: Business or other for-profit.

Estimated Annual Burden: 50 respondents; 160 hours per response (avg.).; 8000 total annual burden hours.

Estimated Annual Reporting and Recordkeeping Cost Burden: $0.

Frequency of Response: Annually.

Description: Section 220 of the Communications Act of 1934, as amended, 47 U.S.C. 220, allows the Commission, at its discretion, to prescribe the forms of any and all accounts, records, and memoranda to be kept by carriers subject to this Act, including the accounts, records, and memoranda of the movement of traffic, as well as of the receipts and expenditures of moneys. Section 219(b) of the Communications Act of 1934, as amended, 47 U.S.C. 219(b), authorizes the Commission by a general or special orders to require any carriers subject to this Act to file annual reports concerning any matters with respect to which the Commission is authorized or required by law to act. ARMIS was implemented to facilitate the timely and efficient analysis of revenue requirements, rates of return and price caps; to provide an improved basis for audits and other oversight functions; and to enhance the Commission's ability to quantify the effects of alternative policy. The ARMIS 43-08 Report collects network-operating data in a consistent format. The ARMIS 43-08 Report monitors network growth, usage, and reliability. The information contained in the ARMIS 43-08 Report provides the necessary detail to enable this Commission to fulfill its regulatory responsibilities. Obligation to respond: Mandatory.

OMB Control No.: 3060-0972.

Expiration Date: 09/30/2002.

Title: Multi-Association Group (MAG) Plan for Regulation of Interstate Services of Non-Price Cap Incumbent Local Exchange Carriers and Interexchange Carriers.

Form No.: N/A.

Respondents: Business or other for-profit.

Estimated Annual Burden: 5461 respondents; 5.23 hours per response (avg.).; 28,571 total annual burden hours.

Estimated Annual Reporting and Recordkeeping Cost Burden: $228,000.

Frequency of Response: On occasion; Quarterly; Annually; One-time; Third Party Disclosure.

Description: In the First Order on Reconsideration in CC Docket No. 00-256, Twenty-fourth Order on Reconsideration in CC Docket No. 96-45 (Order on Reconsideration), released March 22, 2002 (FCC 02-89), the Commission modified on its own motion the data collection and filing procedures for implementation of the Interstate Common Line Support Mechanism (ICLS), in order to ensure timely implementation of the ICLS mechanism on July 1, 2002 as adopted in the Second Report and Order and Further Notice of Proposed Rulemaking in CC Docket No. 00-256, Fifteenth Report and Order in CC Docket No. 96-45, and Report and Order in CC Docket Nos. 98-77 and 98-166 (MAG Order), released November 8, 2001 (FCC 01-304). The Commission extends until April 18, 2002 the original March 31, 2002, deadline set forth in 47 CFR 54.903(a) for the submission of projected data and line counts to USAC. The Commission modifies the requirement under 47 CFR 54.903(a) that each carrier file its data with USAC in order to permit NECA to file the data for each member of the NECA common line pool for the purpose of this initial ICLS filing deadline. If a pooling carrier prefers to file its own data or designate an agent other than NECA to file its data, it may do so at its option. A carrier that does not participate in NECA's common line pool must file its own data or designate an agent to do so. In order to ensure the accuracy and reliability of the data used to calculate support, the Commission requires certain certifications from parties filing data with USAC. The Commission specifies the data to be submitted for the initial ICLS filing under 47 CFR 54.903(a). a. Projected Revenue Requirements. For the initial April 18, 2002 data submission, the Commission requires only projected data required identified in 47 CFR 54.901(a). The initial filing shall therefore include the following data for each eligible rate-of-return carrier: (1) Projected common line revenue requirement; (2) projected SLC revenues; (3) projected revenue from its transitional CCL charge; (4) projected special access surcharges; (5) projected line port costs in excess of basic analog service; and (6) projected LTS. See Order on Reconsideration. (No. of respondents: 37 carriers and NECA; hours per response: 2 hours for carriers and 90 hours for NECA; total annual burden: 164 hours). b(1). Line Counts. The Commission clarifies that the line count data that must be submitted on April 18, 2002, pursuant to 47 CFR 54.903(a), shall include line count data for each study area by customer class (single-line business/residential and multi-line business), but need not include line counts by disaggregation zone. Carriers must file disaggregated line count data on the July 31 annual line count filing. See Order on Reconsideration. (No. of respondents: 17 carriers and NECA; hours per response: 1 hour for carriers and 30 hours for NECA; total annual burden: 47 hours). The following collections were not modified by the Commission's recent Order on Reconsideration. b(2). Line Counts (Support in Competitive Study Areas): Competitive eligible telecommunications carriers will file their line counts, by disaggregation zone and customer class on a quarterly basis, in accordance with the schedule in section 54.307 of our rules. (No. of respondents: 10; hours per response: 6 hours; total annual burden: 60 hours). c. True Ups: Beginning July 31, 2003, and annually thereafter, rate-of-return carriers will be required to submit actual interstate common line cost data to the Administrator for the preceding calendar year. The first date for filing actual cost data shall be July 31, 2003. (No. of respondents: 769; hours per response: 4 hours; total annual burden: 3076 hours). In order to provide rate-of-return carriers with opportunities to true up support amounts on a more frequent basis, carriers will be permitted to file updated cost data with USAC on a quarterly basis. Carriers wishing to submit cost data on a quarterly basis will file such data in accordance with the schedule provided in section 36.612 of the rules. (No. of respondents: 100; hours per response: 2 hours; total annual burden: 200 hours). d. Disaggregation Plans: Consistent with section 254 of the Act, the Commission concluded in the MAG Order that the plan for the geographic disaggregation and targeting of portable high-cost universal service support below the study area level recently adopted in the Rural Task Force Order will also apply to Interstate Common Line Support. To ensure the portability and predictability of support, rate-of-return carriers that elect to disaggregate and target support will be required to submit maps to the Administrator in which the boundaries of the designated disaggregation zones are clearly specified. The Administrator will make such maps available for public inspection by competitors and other interested parties. When submitting information in support of Path Three self-certification, incumbent carriers must provide the Administrator with publicly available information that allows competitors to verify and reproduce the algorithm used to determine zone support levels (Self-Certification of Disaggregation Plan). Similarly, carriers electing Path One must submit to the Administrator a copy of certifications to a state commission or appropriate regulatory authority that they will not disaggregate and target support (Notification to State of Change in Disaggregation Methodology). Carriers selecting Path Two must submit a copy to the Administrator of the order by the state commission or appropriate regulatory authority approving the disaggregation plan submitted, along with a copy of the disaggregation plan itself (Targeting Plan to State). In the MAG Order, the Commission extended until May 15, 2002, the date by which carriers will be required to select a disaggregation path for high-cost loop, LTS, LSS, and Interstate Common Line Support mechanisms. (No. of respondents: 100; hours per response: 1 hour; total annual burden 100 hours) e. Section 254(e) Certifications: Section 254(e) provides that a carrier receiving universal service support must use that support “only for the provision, maintenance, and upgrading of facilities and service for which the support is intended.” To ensure that carriers receiving Interstate Common Line Support and LTS will use that support in a manner consistent with section 254(e), the Commission shall require carriers seeking such support to file a certification with the Commission and the Administrator. This certification requirement will be applicable to rate-of-return carriers and eligible telecommunications carriers seeking support from our Interstate Common Line Support mechanism. The certification shall be filed with the Commission and the Administrator on March 31, 2002. Such certification shall be filed in CC Docket No. 96-45 annually thereafter on June 30th. The certification may be filed in the form of a letter and must state that the carrier will use its Interstate Common Line Support and LTS only for the provision, maintenance, and upgrading of facilities and service for which support is intended. (No. of respondents: 1300; hours per response: 2 hours; total annual burden: 2600 hours). f. Required tariff filings: All rate-of-return carriers are required to modify their access tariffs to comply with the new Subscriber Line Charge (SLC) caps, to become effective on January 1, 2002, and on July 1, 2002, and July 1, 2003 subject to a cost review study for price cap carriers. Rate-of-return carriers also must file tariffs to recover through a separate end-user charge the costs of ISDN line ports and line ports associated with other services that exceed the costs of a line port used for basic analog service. (No. of respondents: 116; hours per response: 69.9 hours (avg.); total annual burden: 8110 hours). g. Optional Line Port Cost Study: Rate-of-return carriers may use 30 percent of local switching costs as a proxy in shifting line port costs to the common line category, or may conduct a cost study based on geographically-averaged costs to be submitted in support of the tariff filing relying on the cost study. A carrier may rely on a cost study for subsequent tariff filings. (No. of respondents: 12; hours per response 40 hours; total annual burden: 480 hours). h. Establishment of TIC Caps: NECA is required to establish for carriers that participated in the NECA pool during the tariff year ending June 30, 2001, an individual carrier dollar limit based on its traffic volumes and the TIC rate for the twelve-month period ending June 30, 2001. Each carrier that was not in the pool during the tariff year ending on June 30, 2001, must determine its TIC limit and report it to NECA for purposes of administering future pool membership changes. (No. of respondents: 1186; hours per response: .13 hours; total annual burden: 2.6 hours). i. Optional tariff filings: Rate-of-return carriers may, at their option, establish the following local switching and transport rate elements: a flat charge for dedicated trunk port costs; a flat charge for the costs of DS1/voice grade multiplexers associated with terminating dedicated trunks at analog switches; a per-minute charge for shared trunk ports and any associated DS1/voice grade multiplexer costs; a flat charge for the costs of trunk ports used to terminate dedicated trunks on the serving wire center side of the tandem switch; individual charges for multiplexer costs associated with tandem switches; and a per-message call setup charge. (No. of respondents: 12; hours per response: 93 hours; total annual burden: 1116 hours). j. GSF allocation: Beginning July 1, 2002, rate-of-return carriers that use general purpose computers to provide non-regulated billing and collection services are required to allocate a portion of their general purpose computer costs to the billing and collection category, which will require them to determine general purpose computer investment. Carriers may use the general purpose computer investment amount they develop for a period of three years. (No. of respondents: 600; hours per response: 20 hours; total annual burden: 12,000 hours).

The Commission will use the information collected to determine whether and to what extent non-price cap or rate-of-return carriers providing the data are eligible to receive universal service support. The Commission will use the tariff data to make sure that rates are just and reasonable, as required by section 201(b) of the Act. Obligation to respond: Mandatory. Public reporting burdens for the collections of information are as noted above. Send comments regarding the burden estimates or any other aspect of the collections of information, including suggestions for reducing the burden to Performance Evaluation and Records Management, Washington, DC 20554.

Federal Communications Commission.
William F. Caton,
Acting Secretary.

[FR Doc. 02-8844 Filed 4-11-02; 8:45 am]

BILLING CODE 6712-01-P